DEPARTMENT OF COMMERCE

Census Bureau

Proposed Information Collection; Comment Request; Monthly Retail Surveys

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 24, 2019.

ADDRESSES: Direct all written comments to Thomas Smith, PRA Liaison, U.S. Census Bureau, 4600 Silver Hill Road, Room 7K250A, Washington, DC 20233 (or via the internet at PRAcomments@doc.gov). You may also submit comments, identified by Docket Number USBC-2019-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Paul Bucchioni, U.S. Census Bureau, EID HQ-8K181, 4600 Silver Hill Road, Washington, DC 20233-6500, (301) 763-7125 (or via the internet at Paul.A.Bucchioni@census.gov).

SUPPLEMENTARY INFORMATION:

I. Abstract

The Census Bureau plans to request an extension of the current Office of Management and Budget clearance for the surveys known as the Monthly Retail Trade Survey (MRTS) and the Advance Monthly Retail Trade Survey (MARTS). The MRTS and MARTS are related collections sharing the same initial sample frame and collect data that are published in conjunction with each other. Beginning with the previous clearance, these two surveys were combined under one control number 0607-0717 and are collectively called the Monthly Retail Surveys (MRS).

The Monthly Retail Trade Survey (MRTS) provides estimates of monthly retail sales, end-of-month merchandise inventories, and quarterly e-commerce sales for firms located in the United States and classified in the Retail Trade or Food Services sectors as defined by the North American Industry Classification System (NAICS).

Estimates produced from the MRTS are based on a probability sample of approximately 13,000 firms. The sample design consists of one fixed panel where all cases are requested to report sales, e-commerce sales, and/or inventories for the prior month. If reporting data for a period other than the calendar month, the survey asks for the period's length (4 or 5 weeks) and the date on which the period ended. The survey also asks for the number of establishments covered by the data provided and whether the sales data provided are estimates or more accurate “book” figures. The sample is drawn approximately every 5 years from the Business Register, which contains all Employer Identification Numbers (EINs) and listed establishment locations. The sample is updated quarterly to reflect employer business “births” and “deaths”; adding new employer businesses identified in the Business and Professional Classification Survey (SQ-CLASS) and deleting firms and EINs when it is determined they are no longer active. Estimates from the MRTS are released in three different reports each month. High level aggregate estimates for end of month inventories are first released as part of the Advance Economic Indicators Report approximately four weeks after the close of the reference month. The sales and inventories estimates from MRTS are released approximately six weeks after the close of the reference month as part of the Monthly Retail Trade report and the Manufacturing and Trade Inventories and Sales (MTIS) report, which are released on the same day. Additionally, once per quarter, data for quarterly e-commerce sales are released approximately 50 days after the close of the reference quarter as part of the Quarterly Retail E-Commerce Sales report. Currently, there are no planned changes for MRTS.

The Advance Monthly Retail Trade Survey (MARTS) provides an early indication of monthly sales for retail trade and food services firms located in the United States. It was developed in response to requests by government, business, and other users to provide an early indication of current retail trade activity in the United States. Retail sales are one of the primary measures of consumer demand for both durable and non-durable goods. The MARTS survey results are published approximately two weeks after the end of the reference month. MARTS provide an OMB-designated Principal Federal Economic Indicator and the earliest available monthly estimates of broad-based retail trade activity. It also provides an estimate of monthly sales at food service establishments and drinking places.

The MARTS sample is a sub-sample of companies selected from the MRTS. The advance survey sample of about 5,500 companies are selected using a stratified sample by industry and size. Some 1,650 firms, because of their relatively large effect on the sales of certain industry groups, are selected with certainty. The MARTS sample is re-selected generally at 2½ to 3-year intervals to ensure it is representative of the target population and to redistribute burden for small- and medium-sized businesses.

Similarly to the MRTS sales estimates, advance sales estimates for each kind of business are developed by applying a ratio of current-month to previous-month sales (derived from the advance retail and food service sample) to the preliminary estimate of sales for the previous month (from the larger monthly sample). Industry estimates are summed to derive total retail sales figures.

The MARTS survey requests sales and e-commerce sales for the month just ending. As on the MRTS survey, if firms report data for a period other than the calendar month, the survey asks for the period's length (4 or 5 weeks) and the date on which the period ended. Also similar to MRTS, the survey also asks for the number of establishments covered by the data provided and whether the sales data provided are estimates or more accurate “book” figures. Currently, there are no planned changes for MARTS.

The Bureau of Economic Analysis (BEA) uses the information collected on these surveys to prepare the National Income and Products Accounts, to benchmark the annual input-output tables and as critical inputs to the calculation of the Gross Domestic Product (GDP). Policymakers at the Federal Reserve Board (FRB), the National Economic Council, and other federal and state governmental agencies as well as many private sector entities rely on the timely estimates of retail sales when making monetary and economic policy decisions.

II. Method of Collection

We collect this information primarily by internet. We do collect a small portion of the data by mail, FAX, and telephone follow-up.

III. Data

OMB Control Number: 0607-0717.

Form Number(s): SM-4417A-A, SM-4417A-E, SM-4417AE-A, SM-4417AE-E, SM-4417AS-A, SM-4417AS-E, SM-7217A-A, SM7217A-E, SM-4417S-A, SM-4417SE-A, SM-4417SSA, SM-7217S-A, SM-7217S-E, SM-4417S-E, SM-4417SE-E, SM-4417SS-E, SM-4417B-A, SM4417BE-A, SM-4417BS-A, SM-4417B-E, SM-4417BE-E, SM-4417BS-E, SM-2017I-A, SM-2017I-E.

Type of Review: Regular submission.

Affected Public: Retail and Food Services firms in the United States.

Estimated Number of Respondents: MRTS-13,000; MARTS-5,500.

Estimated Time per Response: MRTS-7 minutes; MARTS-5 minutes.

Estimated Total Annual Burden Hours: 18,200. (To eliminate duplication, firms that report to the MARTS survey are not required to provide sales and ecommerce sales information for MRTS. Therefore, we use the MRTS sample size and average burden per response to estimate the combined total annual burden for both surveys. The MRTS survey has the maximum number of questions for any given survey respondent as well as the longest estimated burden (at 7 min)).

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-23327 Filed 10-24-19; 8:45 am]

BILLING CODE 3510-07-P